DEPARTMENT OF THE TREASURY

Submission for OMB Review; Comment Request

September 3, 2010.

The Department of the Treasury will submit the following public information collection requirements to OMB for review and clearance under the Paperwork Reduction Act of 1995, Public Law 104-13 on or after the date of publication of this notice. A copy of the submissions may be obtained by contacting the Treasury Department Office Clearance Officers listed. Comments regarding these information collections should be addressed to the OMB reviewer listed and to the Treasury PRA Clearance Officer, Department of the Treasury, 1750 Pennsylvania Avenue, NW., Suite 11010, Washington, DC 20220.

Dates: Written comments should be received on or before October 13, 2010 to be assured of consideration.

Office of Financial Stability (OFS)

OMB Number: 1505-0209.

Type of Review: Revision of a currently approved collection.

Title: Troubled Asset Relief Program—Conflicts of Interest.

Abstract: The interim rule sets forth the process for reviewing and addressing actual or potential conflicts of interest among any individuals or entities seeking or having a contract or financial agency agreement with the Treasury for services under the Emergency Economic Stabilization Act of 2008 (EESA). Section 108 of the EESA requires Treasury to develop guidelines for addressing conflicts of interest as soon as practicable after enactment of the law.

Respondents: Businesses or other for-profits; Individuals or Households.

Estimated Total Reporting Burden: 3,446 hours.

OMB Number: 1505-0219.

Type of Review: Revision of a currently approved collection.

Title: TARP Capital Purchase Program—Executive Compensation.

Abstract: Authorized under the Emergency Economic Stabilization Act of 2008 (EESA), Public Law 110-343, as amended by the American Recovery and Reinvestment Act of 2009 (ARRA), Public Law 111-5, the Department of the Treasury (Treasury) established the Troubled Asset Relief Program (TARP) to purchase, and to make and fund commitments to purchase, troubled assets from any financial institution on such terms and conditions determined by the Secretary. Section 111 of EESA, as amended by ARRA, provides that certain entities receiving financial assistance from Treasury under TARP (TARP recipients) will be subject to specified executive compensation and corporate governance standards established by the Secretary. These standards were set forth in the interim final rule published on June 15, 2009 (74 FR 28394), as corrected on December 7, 2009 (74 FR 63990) (the Interim Final Rule). The standards implemented in the Interim Final Rule require that TARP recipients submit certain information pertaining to their executive compensation and corporate governance practices.

Respondents: Businesses or other for-profits.

Estimated Total Reporting Burden: 12,151 hours.

OFS Clearance Officer: Daniel Abramowitz, OFS, 1801 L Street, NW., Washington, DC 20036; (202) 927-9645.

OMB Reviewer: Shagufta Ahmed, Office of Management and Budget, New Executive Office Building, Room 10235, Washington, DC 20503; (202) 395-7873.

Dawn D. Wolfgang,
Treasury PRA Clearance Officer.

[FR Doc. 2010-22750 Filed 9-10-10; 8:45 am]

BILLING CODE 4810-25-P